DEPARTMENT OF VETERANS AFFAIRS

[OMB Control No. 2900-0092]

Agency Information Collection Activity Under OMB Review: Veteran Readiness and Employment (VR&E) Questionnaire

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0092.

FOR FURTHER INFORMATION CONTACT: Maribel Aponte, Office of Enterprise and Integration, Data Governance Analytics (008), 1717 H Street NW, Washington, DC 20006, (202) 266-4688 or email maribel.aponte@va.gov. Please refer to “OMB Control No. 2900-0092” in any correspondence.

SUPPLEMENTARY INFORMATION: Authority: 38 U.S.C. 501(a), 38 U.S.C. 3102 and 38 U.S.C. 3106.

Title: Veteran Readiness and Employment (VR&E) Questionnaire, VA Form 28-1902w.

OMB Control Number: 2900-0092.

Type of Review: Reinstatement of a previously approved collection.

Abstract: VA Form 28-1902w is used by VA Vocational Rehabilitation Counselors (VRC) to gather the necessary information to determine entitlement during the initial evaluation process. Without this information, determination of entitlement to the maximum benefit to include counseling, education, and/or rehabilitation program may not be granted under 38 U.S.C. 3102, 38 U.S.C. 3106 and 38 U.S.C. 501(a).

An agency may not conduct or sponsor, and a person is not required to respond to a collection of information unless it displays a currently valid OMB control number. The Federal Register Notice with a 60-day comment period soliciting comments on this collection of information was published at insert citation date: 86, FR 66, on April 8, 2021, page 18375.

Affected Public: Individuals or Households.

Estimated Annual Burden: 94,500 hours.

Estimated Average Burden per Respondent: 45 minutes.

Frequency of Response: On occasion.

Estimated Number of Respondents: 126,000.

By direction of the Secretary.
Dorothy Glasgow,
VA PRA Clearance Officer (Alternate), Office of Enterprise and Integration, Data Governance Analytics, Department of Veterans Affairs.

[FR Doc. 2021-12541 Filed 6-14-21; 8:45 am]

BILLING CODE 8320-01-P